DEPARTMENT OF AGRICULTURE

Rural Utilities Service

Associated Electric Cooperative, Inc.; Notice of Extension of Public Scoping Comment Period

AGENCY: Rural Utilities Service, USDA.

ACTION: Notice of extension of public scoping comment period.

SUMMARY: Upon request the Rural Utilities Service (RUS) agrees to extend the public scoping comment period by 30 days prior to the preparation of an environmental impact statement (EIS) in connection to a project proposed by Associated Electric Cooperative, Inc. (AECI), with headquarters in Springfield, Missouri. A previous notice was published in the Federal Register on August 10, 2005 announcing RUS's intent to prepare an EIS and to hold public scoping meetings. The proposal consists of the construction and operation of a nominal 660 megawatt coal-based electrical generating plant and associated transmission facilities. A proposed and an alternate site both near the Missouri River in the northwest quadrant of Missouri have been identified by AECI. AECI is requesting RUS to provide financing for the proposal.

DATES: Send comments to RUS, at the address listed below on or before October 28, 2005.

A Site Selection Study and Macro Corridor Study Report, prepared by Associated Electric Cooperative, is available for public review on the RUS Web site http://www.usda.gov/rus/water/ees/eis.htm, at Associated Electric Cooperative offices at, 2814 S. Golden, Springfield, Missouri 65807, and at the following public repositories:

Cameron Public Library, 312 N. Chestnut St., Cameron, MO 64429, Phone 816/632-2311.

Concordia Library, 709 S. Main St., Concordia, MO 64020, Phone: 660/463-2277.

Hale Library & Museum, 321 Main St., Hale, MO 64643, Phone: 660/565-2617.

Mid-Continent Public Library, Kearney Branch, 100 S. Platte-Clay Way, Kearney, MO 64060-7640, Phone: 816/628-5055.

Macon Public Library, 210 N. Rutherford St., Macon, MO 63552, Phone: 660/385-3314.

Maryville Public Library, 509 N. Main St., Maryville, MO 64468, Phone 660/582-5281.

Little Dixie Regional Library, 111 N. 4th St., Moberly, MO 65270, Phone: 660/263-4426.

Oregon Public Library, 103 S. Washington St., Oregon, MO 64473, Phone: 660/446-3586.

Dulany Memorial Library, 501 S. Broadway, Salisbury, MO 65281, Phone: 660/388-5712.

Carrollton Public Library, 1 N. Folger St., Carrollton, MO 64633, Phone: 660/542-0183.

Mid-Continent Public Library, Excelsior Springs Branch, 1460 Kearney Road, Excelsior Springs, MO 64024-1746, Phone: 816/630-6721

Robertson Memorial Library, 19 W. 20th St., Higginsville, MO 64037, Phone: 660/584-2880.

Lexington Library, 1008 Main St., Lexington, MO 64067, Phone: 660/259-3071.

Marshall Public Library, 214 N. Lafayette, Marshall, MO 65340, Phone: 660/886-3391.

DeKalb County Public Library, 201 N. Polk St., Maysville, MO 64469, Phone: 816/449-5695.

Mound City Public Library, 205 E. 6th St., Mound City, MO 64470, Phone: 660/442-5700.

Ray County Library, 219 S. College St., Richmond, MO 64085, Phone: 816/470-3291.

Rolling Hills Consolidated Library, Savannah, 514 W. Main St., Savannah, MO 64485, Phone: 816/324-4569.

Boonslick Regional Library Sedalia Branch 219 W. 3rd St., Sedalia, MO 65301, Phone: 660/827-7323.

Carnegie Library 316 Massachusetts St., St. Joseph, MO 64504, Phone: 816/238-0526.

East Hills Library 502 N. Woodbine Road, Suite A, St. Joseph, MO 64506, Phone: 816/236-2136.

Washington Park Library 1821 N. Third St., St. Joseph, MO 64505, Phone: 816/232-2052.

Boonslick Regional Library 950 E. Main St., Warsaw, MO 65355, Phone: 660/438-5211.

Sedalia Public Library 311 W. Third St., Sedalia, MO 65301, Phone: 660/826-1314.

Downtown Library 927 Felix St., St. Joseph, MO 64501, Phone: 816/232-7729.

Rolling Hills Consolidated Library: Eastside 1904 N. Belt Highway, St. Joseph, MO 64506, Phone: 816/232-5479.

Sweet Springs Public Library 323 Spring St., Sweet Springs, MO 65351, Phone: 660/335-4314.

Norborne Public Library 109 East 2nd Street, Norborne, MO 64668, Voice: (816) 594-3514.

FOR FURTHER INFORMATION CONTACT: Stephanie Strength, Environmental Protection Specialist, RUS, Engineering and Environmental Staff, 1400 Independence Avenue, SW., Stop 1571, Washington, DC 20250-1571, telephone: (202) 720-0468 or email: stephanie.strength@usda.gov, or Charles Means, Senior Regulatory Policy Analyst, Associated Electric Cooperative, Inc., P.O. Box 754, Springfield, Missouri 65801 or email: cmeans@aeci.org.

SUPPLEMENTARY INFORMATION: AECI proposes to construct and operate a nominal 660-megawatt coal-based electric generating facility at one of two sites in northwest Missouri. Its proposed site is just west of Norborne, Missouri, in Carroll County. The alternative site is west of Big Lake Missouri, along the Missouri River and just south of U.S. Highway 159 in Holt County. Fuel will be supplied to the plant at either site by rail; competing rail options will be evaluated. Construction of the project at either site will require the construction of new transmission facilities. Substation upgrades and approximately 135 miles of 345-kV transmission line would be required to connect the new plant to AECI's transmission system. For the proposed Norborne site, one line would go east to the existing Thomas Hill Substation, and one line would go south to Sedalia and then to a new substation in eastern Benton County. For the Holt County site, a double circuit 345-kV line would be required from the plant to the Fairport Substation in DeKalb County and a single circuit 345-kV line from the Fairport Substation to a new substation near Orrick, Missouri, in southwest Ray County. AECI's schedule calls for these facilities to be in commercial operation by May 2011.

Alternatives to be considered by RUS include no action, purchased power, renewable energy sources, distributed generation, and alternative site locations.

Four public scoping meetings in an open-house format followed by a discussion period were held: August 22, 2005, Oregon, Missouri, at T.J. Hall Community Center, 104 S. Main; August 23, 2005, Sedalia, Missouri at Missouri Electric Cooperatives Building, State Fair Grounds, 2503 W. 16th St.; August 24, 2005, Salisbury, Missouri at Knights of Columbus Building, 311 E. Patterson Ave.; August 25, 2005, Norborne, Missouri, at Goppert Community Building, 201 S. Pine.

RUS will use input provided by government agencies, private organizations, and the public in the preparation of a Draft EIS. The Draft EIS will be available for review and comment for 45 days. A Final EIS will then be prepared that considers all comments received. The Final EIS will be available for review and comment for 30 days. Following the 30-day comment period, RUS will prepare a Record of Decision (ROD). Notices announcing the availability of the Draft and Final EIS and the ROD will be published in the Federal Register and in local newspapers.

Any final action by RUS related to the proposed project will be subject to, and contingent upon, compliance with all relevant Federal, State and local environmental laws and regulations and completion of the environmental review requirements as prescribed in the RUS Environmental Policies and Procedures (7 CFR Part 1794).

Dated: September 23, 2005.
Mark S. Plank,
Acting Director, Engineering and Environmental Staff, Water and Environmental Programs, Rural Utilities Service.

[FR Doc. 05-19578 Filed 9-29-05; 8:45 am]

BILLING CODE 3410-15-M